DEPARTMENT OF AGRICULTURE

Forest Service

Madera County Resource Advisory Committee

AGENCY: Forest Service, USDA.

ACTION: Notice of Resource Advisory Committee Meeting.

SUMMARY: Pursuant to the authorities in the Federal Advisory Committee Act of 1972 (Public Law 92-463) and under the secure Rural Schools and Community Self-Determination Act of 2000 (Public Law 106-393) the Sierra National Forest's Resource Advisory Committee for Madera County will meet on Monday, July 15, 2002. The Madera Resource Advisory Committee will meet at the Forest Service Headquarters office, 57003 Road 225, North Fork, California 93643. The purpose of the meeting will be a field review of proposed projects in North Fork.

DATES: The Madera Resource Advisory Committee meeting will be held Monday, July 15, 2002. The meeting will be held from 7 p.m. to 9 p.m.

ADDRESSES: The Madera County RAC meeting will be held at the Forest Service Headquarters, 57003 Road 225, North Fork, CA 93643.

FOR FURTHER INFORMATION CONTACT: Dave Martin, U.S.D.A., Sierra National Forest, 57003 Road 225, North Fork, CA 93643, (559) 877-2218 ext. 3100; e-mail: dmartin05@fs.fed.us.

SUPPLEMENTARY INFORMATION: Agenda items to be covered include: (1) a field review of current proposed resource project proposal, (2) public comments. The meeting is open to the public. Public input opportunity will be provided and individuals will have the opportunity to address the Committee at that time.

Dated: June 21, 2002.
David W. Martin,
District Ranger.

[FR Doc. 02-16225 Filed 6-26-02; 8:45 am]

BILLING CODE 3410-11-M